FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 7, 2008.

A. Federal Reserve Bank of Kansas City (Todd Offerbacker, Assistant Vice President) 925 Grand Avenue, Kansas City, Missouri 64198-0001:

1. Charles C. Neal, individually and as trustee of the Charles A. Neal Revocable Trust, and by Charles C. Neal, Ann L. Neal and Jane E. Neal, all of Miami, Oklahoma; Elizabeth Edwards, Argyle, Texas; and Mary K. Neal, University City, Missouri, as members of the Neal family group; to retain control of First Miami Bancshares, Inc., parent of The First National Bank and Trust Company of Miami, Miami, Oklahoma, and Bank of Billings, Billings, Missouri.

Board of Governors of the Federal Reserve System, April 17, 2008.
Robert deV. Frierson,
Deputy Secretary of the Board.

[FR Doc. E8-8665 Filed 4-21-08; 8:45 am]

BILLING CODE 6210-01-S